LEGAL SERVICES CORPORATION

Notice of Intent To Award—Grant Awards for the Establishment of a Pro Bono Program To Provide Legal Services to Eligible Veteran Appellants before the U.S. Court of Appeals For Veterans Claims Beginning January 1, 2003

AGENCY: Legal Services Corporation.

ACTION: Announcement of intention to make FY 2003 Competitive Veterans Grant Awards.

SUMMARY: The Legal Services Corporation (LSC) hereby announces its intention to award grants and contracts to provide economical and effective delivery of high quality legal services to veterans, beginning January 1, 2003.

DATES: All comments and recommendations must be received on or before the close of business on October 10, 2002.

ADDRESSES: Legal Services Corporation—Veterans Grant Competition, Legal Services Corporation, 750 First Street NE., 10th Floor, Washington, DC 20002-4250.

FOR FURTHER INFORMATION CONTACT: Jennifer Bateman, Grants Coordinator, Office of Program Performance, (202) 336-8835.

SUPPLEMENTARY INFORMATION: Pursuant to LSC's announcement of funding availability on May 15, 2002, LSC received a qualified application from the following organization to provide legal services to veterans:

Applicant | Grant amount
Veterans Consortium Pro Bono Program | $1,000,000.00

An award will be made so that low income veteran appellants to the U.S. Court of Appeals for Veterans Claims will be represented. The listed organization is not guaranteed an award or contract. LSC requests comments and recommendations concerning the potential grantee within a period of thirty (30) days from the date of publication of this notice. Grants will become effective and grant funds will be distributed on or about January 1, 2003.

* * * Funding for this proposed service area is subject to the final Congressional appropriation for this purpose. There is no guarantee that funding for this service area will be available.

Dated: September 5, 2002.
Michael A. Genz,
Director, Office of Program Performance.

[FR Doc. 02-23005 Filed 9-9-02; 8:45 am]

BILLING CODE 7050-01-P